DEPARTMENT OF THE TREASURY

Office of Foreign Assets Control

[Case ID: VENEZUELA-17330]

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action

On July 23, 2020, OFAC determined that the property and interests in property subject to U.S. jurisdiction of the following persons are blocked under the relevant sanctions authority listed below.

Individuals

1. MORON HERNANDEZ, Santiago Jose, Juana de Avila Avenue, 15B, Esquina con calle 69A-140, Maracaibo, Venezuela; DOB 11 May 1984; POB Venezuela; nationality Venezuela; Gender Male; Cedula No. V-16586012 (Venezuela); Passport 045751099 (Venezuela); alt. Passport 153166637; Identification Number D19807013 (Venezuela) (individual) [VENEZUELA] (Linked To: MADURO GUERRA, Nicolas Ernesto).

Designated pursuant to section 1(a)(ii)(D)(1) of Executive Order 13692 of March 8, 2015, “Blocking Property and Suspending Entry of Certain Persons Contributing to the Situation in Venezuela,” (“E.O. 13692” or “the Order”), as amended by Executive Order 13857 of January 25, 2019, “Taking Additional Steps To Address the National Emergency With Respect to Venezuela,” (“E.O. 13857”), for having materially assisted, sponsored, or provided financial, material, or technological support for, or goods or services to or in support of Nicolas Ernesto Maduro Guerra, a person whose property and interests in property are blocked pursuant to the Order.

2. MORON HERNANDEZ, Ricardo Jose, Solosnicka 308/8, Karlova Ves, Bratislava 841 04, Slovakia; San Felipe de La Castellana Street, Caracas, Venezuela; DOB 19 Dec 1982; POB Venezuela; nationality Venezuela; Gender Male; Cedula No. V-15809729 (Venezuela); Identification Number Z14040390 (Venezuela) (individual) [VENEZUELA].

Designated pursuant to section 1(a)(ii)(D)(2) of Executive Order 13692 of March 8, 2015, “Blocking Property and Suspending Entry of Certain Persons Contributing to the Situation in Venezuela,” (“E.O. 13692” or “the Order”), as amended by Executive Order 13857 of January 25, 2019, “Taking Additional Steps To Address the National Emergency With Respect to Venezuela,” (“E.O. 13857”), for having materially assisted, sponsored, or provided financial, material, or technological support for, or goods or services to or in support of public corruption by senior officials within the Government of Venezuela, an activity described in subsection (a)(ii)(A) of the Order.

Dated: July 23, 2020.
Andrea Gacki,
Director, Office of Foreign Assets Control, U.S. Department of the Treasury.

[FR Doc. 2020-16313 Filed 7-27-20; 8:45 am]

BILLING CODE 4810-AL-P